SMALL BUSINESS ADMINISTRATION

[Declaration of Disaster #3428]

State of Texas (Amendment #3)

In accordance with a notice received from the Federal Emergency Management Agency, dated July 16, 2002, the above numbered declaration is hereby amended to include Duval, McMullen and Jim Wells Counties in the State of Texas as disaster areas due to damages caused by severe storms and flooding occurring on June 29, 2002 and continuing.

In addition, applications for economic injury loans from small businesses located in the following contiguous counties may be filed until the specified date at the previously designated location: Brooks, Jim Hogg, Kleberg, Nueces and San Patricio Counties in Texas. All other counties contiguous to the above named primary counties have been previously declared.

All other information remains the same, i.e., the deadline for filing applications for physical damage is September 2, 2002, and for economic injury the deadline is April 4, 2003.

(Catalog of Federal Domestic Assistance Program Nos. 59002 and 59008)

Date: July 17, 2002.
S. George Camp,
Acting Associate Administrator for Disaster Assistance.

[FR Doc. 02-18769 Filed 7-24-02; 8:45 am]

BILLING CODE 8025-01-P